DEPARTMENT OF THE INTERIOR

Bureau of Land Management

[LLNM950000L13400000.BX0000]

Notice of Filing of Plats of Survey, New Mexico

AGENCY: Bureau of Land Management, Interior.

ACTION: Notice of filing of Plats of Survey.

SUMMARY: The plats of survey described below are scheduled to be officially filed in the New Mexico State Office, Bureau of Land Management (BLM), Santa Fe, New Mexico, thirty (30) calendar days from the date of this publication.

FOR FURTHER INFORMATION CONTACT: These plats will be available for inspection in the New Mexico State Office, Bureau of Land Management, 301 Dinosaur Trail, Santa Fe, New Mexico. Copies may be obtained from this office upon payment. Contact Carlos Martinez at 505-954-2096, or by email at cjjmarti@blm.gov, for assistance. Persons who use a telecommunications device for the deaf (TDD) may call the Federal Information Relay Service (FIRS) at 1-800-877-8339 to contact the above individual during normal business hours.

SUPPLEMENTARY INFORMATION:

New Mexico Principal Meridian, New Mexico (NM)

The plat, in three sheets, representing the dependent resurvey and survey, in Townships 13 & 14 North, Range 17 West, of the New Mexico Principal Meridian, accepted September 6, 2017, for Group 1186 NM. This survey was executed at the request of the Bureau of Indian Affairs, Southwest Region, and is necessary for the management of these lands.

The plat representing the dependent resurvey and survey in Township 19 North, Range 9 East, of the New Mexico Principal Meridian, accepted May 25, 2017, for Group 1120 NM. This survey was executed at the request of the Bureau of Indian Affairs, Southwest Region, for the Pojoaque Pueblo, and is necessary for the management of these lands.

The plat representing the dependent resurvey and survey in Township 18 North, Range 10 East, of the New Mexico Principal Meridian, accepted June 8, 2017, for Group 1180 NM. This survey was executed at the request of the U.S. Forest Service, Region 3, and is necessary for the management of these lands.

The plat representing the dependent resurvey and survey in Township 23 North, Range 5 East, of the New Mexico Principal Meridian, accepted September 26, 2017, for Group 1171 NM. This survey was executed at the request of the U.S. Army Corps of Engineers, and is necessary for the management of these lands.

The plat representing the dependent resurvey and survey in Township 27 North, Range 20 West, of the New Mexico Principal Meridian, accepted August 9, 2017, for Group 1177 NM. This survey was executed at the request of the Bureau of Indian Affairs, Navajo Region, and is necessary for the management of these lands.

The Supplemental plat representing Township 29 North, Range 11 East, of the New Mexico Principal Meridian, accepted July 13, 2017, for Group 1187 NM. This survey was executed at the request of the Bureau of Land Management, Taos District Office, and is necessary for the management of these lands.

The Supplemental plat representing Township 21 North, Range 10 East, of the New Mexico Principal Meridian, accepted December 14, 2016, for Group 1185 NM. This survey was executed at the request of the U.S. Forest Service, Region 3, and is necessary for the management of these lands.

Indian Meridian, Oklahoma (OK)

The plat representing the dependent resurvey and survey in Township 29 North, Range 23 East, of the Indian Meridian, accepted December 2, 2016, for Group 219 OK. This survey was executed at the request of the Bureau of Indian Affairs, Eastern Oklahoma Region, and is necessary for the management of these lands.

The plat representing the dependent resurvey and survey in Township 24 North, Range 4 East, of the Indian Meridian, accepted July 11, 2017, for Group 235 OK. This survey was executed at the request of the Bureau of Indian Affairs, Eastern Oklahoma Region, and is necessary for the management of these lands.

Authority: These plats are scheduled for official filing 30 days from this notice of publication in the Federal Register, as provided for in the BLM Manual, Section 2097—Opening Orders and 43 U.S.C. Chap. 3.

If a protest against a survey, in accordance with 43 CFR 4.450-2, of any of the above plats is received prior to the date of official filing, the filing will be stayed pending consideration of the protest. A plat will not be officially filed until the day after all protests have been dismissed and become final or appeals from the dismissal affirmed.

A person or party who wishes to protest against any of these surveys must file a written protest with the New Mexico State Director, in the New Mexico State Office, Bureau of Land Management, 301 Dinosaur Trail, Santa Fe, within 30 days of the publication of the Federal Register notice, stating they are protesting.

A statement of reasons for a protest may be filed with the Notice of Protest to the State Director or the statement of reasons must be filed with the State Director within thirty (30) days after the protest is filed.

Dated: October 3, 2017.
Charles I. Doman,
Chief Cadastral Surveyor for New Mexico.

[FR Doc. 2017-21736 Filed 10-6-17; 8:45 am]

BILLING CODE 4310-FB-P